DEPARTMENT OF JUSTICE

Amended Notice of Lodging of Proposed Consent Decree Under the Comprehensive Environmental Response, Compensation, and Liability Act

This Notice amends and replaces the original notice published on October 19, 2012, 77 FR 64353-64354. Notice is hereby given that on October 10, 2012, the Department of Justice lodged a proposed consent decree with the United States District Court for the Central District of California in the lawsuit entitled City of Colton v. American Promotional Events, Inc., et al., Civil Action No. CV 09-01864 PSG [Consolidated with Case Nos. CV 09-6630 PSG (SSx), CV 09-06632 PSG (SSx), CV 09-07501 PSG (SSx), CV 09-07508 PSG (SSx), CV 10-824 PSG (SSx) and CV 05-01479 PSG (SSx)].

In this action, the United States filed a complaint under Section 107 of the Comprehensive Environmental Response, Compensation, and Liability Act of 1980, 42 U.S.C. 9607, (“CERCLA”), to recover past response costs incurred and other relief in connection with the B.F. Goodrich Superfund Site located approximately 60 miles east of Los Angeles in San Bernardino County, California. The consent decree requires Pyro Spectaculars, Inc., Astro Pyrotechnics, Inc., Trojan Fireworks Company, Peters Parties, Stonehurst Site, LLC, and related entities, to pay a combined $5,663,000 to the United States, San Bernardino County, the City of Colton, and the City of Rialto. Of this amount, the United States shall receive $4,330,000; Colton shall receive $500,000; Rialto shall receive $500,000; and San Bernardino County shall receive $333,000. In return, the United States provides covenants not to sue pursuant to Sections 106 and 107(a) of CERCLA and Section 7003 of the Resource Conservation and Recovery Act. A hearing will be held on the proposed settlement if requested in writing within the public comment period.

The publication of this notice opens a period for public comment on the consent decree. Comments should be addressed to the Assistant Attorney General, Environment and Natural Resources Division, and should refer to City of Colton v. American Promotional Events, Inc., et al., D.J. Ref. No. 90-11-2-09952. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $15.50 (25 cents per page reproduction cost) payable to the United States Treasury.

Maureen Katz,
Assistant Chief, Environmental Enforcement Section, Environment and Natural Resources Division.

[FR Doc. 2012-26250 Filed 10-24-12; 8:45 am]

BILLING CODE 4410-15-P